NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 22, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Under Secretary of Defense Personnel and Readiness, (N1-330-10-3, 1 item, 1 temporary item). Records of outpatient medical and dental care of all service members, including summaries of inpatient care. Records that support compensation claims are retained permanently in Department of Veteran Affairs claims files.

2. Department of Health and Human Services, Administration on Aging (N1-439-11-1, 5 items, 4 temporary items). Records documenting a discontinued program created to provide a long-term health insurance program, such as correspondence, working papers, and administrative records. Proposed for permanent retention are final reports and appendices produced to recommend suspending the program

3. Department of Health and Human Services, Centers for Medicare & Medicaid Services (N1-440-9-4, 4 items, 3 temporary items). Master files of electronic systems containing prescription drug coverage information including individual enrollment information, prescription drug cost and claims, and payment rate records. Proposed as permanent are outputs containing summary of annual prescription approvals and expenditure data.

4. Department of Health and Human Services, Centers for Medicare & Medicaid Services (N1-440-9-15, 1 item, 1 temporary item). Master files of an electronic system containing final actions related to prescription drug coverage, including expenditures and administrative records.

5. Department of Health and Human Services, Centers for Medicare & Medicaid Services (DAA-0440-2012-0005, 9 items, 8 temporary items). Master files of electronic systems related to private health insurance programs, including product information, consumer outreach records, trending and analysis data, pre-existing condition insurance plan enrollment records, and information on various markets and providers. Proposed for permanent retention are statistical reports pertaining to pre-existing condition plans and enrollment.

6. Department of Health and Human Services, Centers for Medicare & Medicaid Services (DAA-0440-2012-0007, 1 item, 1 temporary item). Master files of an electronic information system containing data on Medicare payments recouped during the audit process.

7. Department of Health and Human Services, Office of the Assistant Secretary for Administration (DAA-0468-2012-0001, 3 items, 2 temporary items). Records relating to the Federal Real Property Assistance Program, including case files for proposed applications and general administrative records not related to a specific case. Proposed for permanent retention are case files relating to awarded properties.

8. Department of the Interior, Office of Financial Management (DAA-0048-2011-0002, 1 item, 1 temporary item). Master files of an electronic information system used to track, analyze, and report cases of great financial loss resulting from litigation or expected litigation.

9. Department of the Interior, Office of the Secretary (N1-48-11-3, 3 items, 3 temporary items). Master files of electronic information systems used to monitor email and web traffic to prevent the disclosure of personally identifiable information and other sensitive personal information to unauthorized parties.

10. Department of State, Bureau of Diplomatic Security (DAA-0059-2011-0008, 2 items, 2 temporary items). Records documenting security inspections of facilities and certifications of secure shipping materials for construction overseas.

11. Department of State, Office of Commissary and Recreation (DAA-0059-2011-0012, 8 items, 8 temporary items). Records related to the oversight and operations of employee associations abroad, including by-laws, charters, copies of legal opinions, license agreements, financial statements, insurance and procurement waivers, and compliance certifications.

12. Department of Transportation, National Highway Traffic Safety Administration (N1-416-09-5, 6 items, 4 temporary items). Records of the Office of Rulemaking, including rulemaking, non-rulemaking, and working files. Proposed for permanent retention are public docket files.

13. Department of the Treasury, Internal Revenue Service (N1-58-11-4, 4 items, 4 temporary items). Master files, audit data, and documentation of an electronic information system used to track usage of tax filing processes.

14. Department of the Treasury, Internal Revenue Service (N1-58-11-11, 2 items, 2 temporary items). Master files and documentation of an electronic information system used to process electronic tax payments.

15. Department of the Treasury, Internal Revenue Service (N1-58-11-26, 6 items, 6 temporary items). Master files and system documentation of an electronic information system used to assign and track tax returns assigned to examiners.

16. Department of the Treasury, Internal Revenue Service (N1-58-11-27, 2 items, 2 temporary items). Master files and system documentation of an electronic information system used to analyze Federal benefit information.

17. Federal Retirement Thrift Investment Board, Office of Finance (N1-474-12-2, 1 item, 1 temporary item). Records documenting separated employees' eligibility for unemployment benefits.

18. National Aeronautics and Space Administration, Agency-wide (DAA-255-2011-0005, 5 items, 5 temporary items). Records relating to industrial hygiene surveys. Included are beryllium exposure records, all other exposure records, and supporting documentation.

19. Social Security Administration, Office of General Counsel (N1-47-10-4, 26 items, 25 temporary items). Records of general law case files including unemployment, labor, tort claims, and general litigation; monthly reports; and master files of electronic information systems used to track dockets and process Freedom of Information Act requests. Proposed for permanent retention are precedent-setting legal opinions.

Dated: May 15, 2012.
Paul M. Wester, Jr.,
Chief Records Officer for the U.S. Government.

[FR Doc. 2012-12424 Filed 5-22-12; 8:45 am]

BILLING CODE 7515-01-P